NATIONAL SCIENCE FOUNDATION

Notice of Permit Applications Received Under the Antarctic Conservation Act of 1978 (Pub. L. 95-541)

AGENCY: National Science Foundation.

ACTION: Notice of permit applications received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by August 16, 2001. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), has developed regulations that implement the “Agreed Measures, developed by the Antarctic Treaty Consultative Parties, recommended establishment of a permit system for various activities in Antarctica and designation of certain animals and certain geographic areas a requiring special protection. The regulations establish such a permit system to designate Specially Protected Areas and Sites of Special Scientific Interest.”

The applications received are as follows: 1. Applicant, Permit Application No. 2002-001, Jerry, Mullins, U.S. Geological Survey, MS-521, Reston, VA 20192.

Activity for Which Permit is Requested

Enter Antarctic Specially Protected Area. The McMurdo Dry Valleys are a primary site for calibration and validation of NASA's ICESat satellite data, set for launch in the coming year. The applicant plans to use a scanning laser altimeter from a Twin Otter to measure very precisely the surface elevation and topography of the valleys within the 70-meter footprint of the laser. Due to the relatively confined region of the Dry Valleys, it is necessary to survey all of the ice-free portions for the satellite calibration data set, including the Barwick Valley (ASPA #123). For optimal data, the survey will require that flights be conducted over the region at a minimum altitude of 1500 feet above ground level. All ground support activities will be provide this data set, without new aerial photography and intensive ground-based activities in the Valley.

Location

ASPA 123—Barwick Valley, Victoria Land, and other McMurdo Dry Valleys

Dates

December 1, 2001 to February 20, 2003

2. Applicant, Permit Application No. 2002-002, Robert L. Pitman, Southwest Fisheries Science Center, NOAA/NMFS, 8604 La Jolla Shores Drive, La Jolla, CA 92037.

Activity for Which Permit is Requested

Take and Import into the U.S. The applicant proposes to collect biopsy samples (tiny bits of skin) from up to 50 Killer whales (Orcinus orca) in the Ross Sea to determine the status of the resident stock. Killer whales were described as a separate species years ago but molecular genetic analysis is needed to confirm or deny the allegation. Samples will be returned to the Southwest Fisheries Science Center DNA tissue bank.

Location

Ross Sea, Antarctica

Dates

December 20, 2001 to March 31, 2003

3. Applicant, Permit Application No. 2002-003, Randall Davis, Department of Marine Biology, Texas A&M University, 5007 Avenue U, Galveston, TX 77551

Activity for Which Permit is Requested

Take and Import into the U.S. The applicant proposes to enter White Island (ASPA #137) to conduct a census and assess Weddell seal abundance, distribution and habitat. Access to the site for one day will be by helicopter or surface vehicle.

Location

Northwest White Island, McMurdo Sound—ASPA #137

Dates

October 1, 2001 to December 20, 2001

Nadene G. Kennedy,
Permit Officer, Office of Polar Programs.

[FR Doc. 01-17854 Filed 7-10-01; 8:45 am]

BILLING CODE 7555-01-M